DEPARTMENT OF THE INTERIOR

Fish and Wildlife Service

[FWS-HQ-IA-2014-N249; FXIA16710900000-156-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before January 5, 2015. We must receive requests for marine mammal permit public hearings, in writing, at the address shown in the ADDRESSES section by January 5, 2015.

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Space Wild Animal Farm Inc. Sussex, NJ; PRT-047058

The applicant requests renewal of their captive-bred wildlife registration under 50 CFR 17.21(g) for leopards (Panthera pardus) and ring-tailed lemurs (Lemur catta) to enhance the species' propagation or survival. This notification covers activities to be conducted by the applicant over a 5-year period.

Applicant: GTWT, LLC, Okeechobee, FL; PRT-48054A

The applicant requests renewal of their captive-bred wildlife registration under 50 CFR 17.21(g) for barasingha (Rucerus duvaucelii) to enhance the species' propagation or survival. This notification covers activities to be conducted by the applicant over a 5-year period.

Applicant: Toledo Zoo, Toledo, OH; PRT-677660

The applicant requests a renewal of their captive-bred wildlife registration under 50 CFR 17.21(g) for the following families and species, to enhance the species' propagation or survival. This notification covers activities to be conducted by the applicant over a 5-year period.

Families:

Bovidae

Canidae

Cebidae

Cercopithecidae

Felidae (does not include jaguar, margay or ocelot)

Hominidae

Hylobatidae

Lemuridae

Rhinocerotidae

Columbidae

Psittacidae (does not include thick-billed parrot)

Rallidae

Sturnidae (does not include Aplonis pelzelni)

Alligatoridae

Boidae (does not include Mona or Puerto Rican boa)

Chelidae

Crocodylidae (does not include American crocodile)

Emydidae

Gekkonidae

Iguanidae

Sphenodontidae

Testudinidae

Varanidae

Viperidae

Species:

Koala (Phascolarctos cinereus)

Jackass penguin (Spheniscus demersus)

Applicant: Washington Park Zoo, Michigan City, IN; PRT-694606

The applicant requests renewal of their captive-bred wildlife registration under 50 CFR 17.21(g) for the family Lemuridae or the species white-collared mangabey (Cercocebus torquatus) to enhance the species' propagation or survival. This notification covers activities to be conducted by the applicant over a 5-year period.

Applicant: Mac Embury, Grants Pass, OR; PRT-37451A

The applicant requests a captive-bred wildlife registration under 50 CFR 17.21(g) for the following species, to enhance the species' propagation or survival. This notification covers activities to be conducted by the applicant over a 5-year period.

Species:

Golden parakeet (Guarouba guarouba)

Cuban parrot (Amazona leucocephala)

Vinaceous parrot (Amazona vinacea)

Blyth's tragopan (Tragopan blythii)

Cabot's tragopan (Tragopan caboti)

Red-crowned crane (Grus japonensis)

Black-necked crane (Grus nigricollis)

White-naped crane (Grus vipio)

Hooded crane (Grus monacha)

Galapagos tortoise (Chelonoidis nigra)

Radiated tortoise (Astrochelys radiata)

Applicant: St. Augustine Alligator Farm, St. Augustine, FL; PRT-749207

The applicant requests renewal of their captive-bred wildlife registration under 50 CFR 17.21(g) for the following families and species to enhance their propagation or survival. This notification covers activities to be conducted by the applicant over a 5-year period.

Families:

Alligatoridae (does not include the American alligator)

Crocodylidae (does not include the American crocodile)

Species:

Cotton-top tamarin (Saguinus oedipus)

Golden parakeet (Aratinga guarouba)

Blue-throated macaw (Ara glaucogularis)

Applicant: Black Eagle Ranch, Fredericksburg, TX; PRT-52197B

The applicant requests authorization to take up to five Arabian oryx (Oryx leucoryx), up to five red lechwe (Kobus lechwe), and up to five Barasingha deer (Cervus duvaucelii) per year, under their captive-bred wildlife registration 50 CFR 17.21(g). This notification covers activities to be conducted by the applicant over a 5-year period.

Applicant: Larry Johnson, Boerne, TX; PRT-49080B

The applicant requests a permit to export 51 captive-bred Scimitar-horned oryx (Oryx dammah) for the purpose of enhancement of the survival of the species. This notification covers activities to be conducted by the applicant over a 5-year period.

Applicant: Honolulu Zoo, Honolulu, HI; PRT-48586B

The applicant requests a permit to import one male and two female captive-born Japanese giant salamanders (Andrias japonicus) from Asa Zoo, Hiroshima, Japan, for the purpose of enhancement of the survival of the species.

Applicant: Louisiana State University, Baton Rouge, LA; PRT-003005

The applicant requests a permit to export and reimport nonliving museum specimens of endangered and threatened species previously accessioned into the applicant's collection for scientific research. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Richard Boyer, Morrison, CO; PRT-46005B

Applicant: Frank Giacalone, Magnolia, TX; PRT-46530B

Applicant: Lee Friend, Loganville, GA; PRT-48426B

Applicant: David L. Bahl, Waukesha, WI; PRT-49174B

Applicant: Robert M. Pirnie, Pike Road, AK; PRT-49743B

B. Endangered Marine Mammals and Marine Mammals

Applicant: Terrie Williams, University of California, Santa Cruz, CA; PRT-45505B

The applicant requests a permit to take southern sea otters (Enhydra lutris nereis) for the purpose of scientific research on the physiology of and metabolic demands on female southern sea otters. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2014-28479 Filed 12-3-14; 8:45 am]

BILLING CODE 4310-55-P